DEPARTMENT OF HEALTH AND HUMAN SERVICES

Administration for Children and Families

Proposed Information Collection Activity; Comment Request

Title: Prevention Services Data Collection.

OMB No.: 0970-NEW.

Description: Section 471(e)(4)(E) of the Social Security Act (the Act) (42 U.S.C. 671) as amended by Public Law 115-123 requires state and tribal child welfare agencies to collect and report to the Administration for Children and Families (ACF) information on children receiving prevention and family services and programs. States and tribes must report:

• The specific services or programs provided,

• The total expenditures for each of the services or programs provided,

• The duration of the services or programs provided, and

• If the child was identified in a prevention plan as a candidate for foster care:

○ The child's placement status at the beginning, and at the end, of the 12 month period that begins on the date the child was identified as a candidate for foster care in a prevention plan; and

○ whether the child entered foster care during the initial 12 month period and during the subsequent 12 month period.

It is anticipated that half or less of the tribes and states will choose to provide these prevention services in the first years of the program availability, but that number will increase over time.

The data collected will inform federal policy decisions, program management, and responses to Congressional and Departmental inquiries. Specifically, the data will provide information about the use and availability of prevention services to children to prevent the need for foster care placement. The data will contain personally identifiable information (date of birth and race/ethnicity).

Respondents: State and tribal child welfare agencies.

Annual Burden Estimates
Instrument | Number of respondents | Number of responses per respondent | Average burden hours per response | Total burden hours
Prevention Services Data Collection | 20 | 1 | 31 | 620

Estimated Total Annual Burden Hours: 620.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-00895 Filed 2-1-19; 8:45 am]

BILLING CODE 4184-25-P